DEPARTMENT OF THE TREASURY

Internal Revenue Service

26 CFR Part 1

[TD 8934]

RIN 1545-AX60

Reopenings of Treasury Securities and Other Debt Instruments; Original Issue Discount; Correction

AGENCY: Internal Revenue Service (IRS), Treasury.

ACTION: Correction to final regulations.

SUMMARY: This document contains corrections to final regulations that were published in the Federal Register on Friday, January 12, 2001 (66 FR 2811), relating to reopenings of Treasury securities, other debt instruments, and original issue discount.

DATES: This correction is effective March 13, 2001.

FOR FURTHER INFORMATION CONTACT: William E. Blanchard, (202) 622-3950 (not a toll-free number).

SUPPLEMENTARY INFORMATION:

Background

The final regulations (TD 8934) that are the subject of these corrections are under section 1275 of the Internal Revenue Code.

Need for Correction

As published the final regulations (TD 8934) contain errors that may prove to be misleading and are in need of clarification.

Correction of Publication

Accordingly, the publication of the final regulations (TD 8934), which were the subject of FR Doc. 01-622, is corrected as follows:

On page 2813, column 2, in the preamble under the heading “(2) Yield Test”, second line from the bottom of the column the language “pecent test in the proposed regulations” is corrected to read “percent test in the proposed regulations”.

Cynthia E. Grigsby,
Chief, Regulations Unit, Office of Special Counsel (Modernization & Strategic Planning).

[FR Doc. 01-4922 Filed 2-28-01; 8:45 am]

BILLING CODE 4830-01-P